OFFICE OF THE UNITED STATES TRADE REPRESENTATIVE

Generalized System of Preferences (GSP); Initiation of a Review to Consider the Designation of Nigeria as a Beneficiary Developing Country Under the GSP; Solicitation of Public Comments Relating to the Designation Criteria

Correction

In notice document 00-11071 appearing on page 25972 in the issue of Thursday, May 4, 2000, make the following correction:

On page 25972, in the third column, in the first full paragraph, in the 11th line, “July 10th” should read “June 5th”.

[FR Doc. C0-11071 Filed 5-8-00; 8:45 am]

BILLING CODE 1505-01-D

DEPARTMENT OF COMMERCE

National Oceanic and Atmospheric Administration

50 CFR Part 635

[I.D. 110499B]

RIN 0648-AM79

Atlantic Highly Migratory Species; Pelagic Longline Management

Correction

In proposed rule document 00-10310 beginning on page 24440 in the issue of Wednesday, April 26, 2000, make the following correction:

On page 24441, the table should appear as follows:

Discards and target species | No effort redistribution model (percent) | Redistribution of effort model (percent)
Swordfish Discards | -5.31 | -4.09
Blue Marlin Discards | -1.36 | 1.16
White Marlin Discards | -1.84 | 1.07
Sailfish Discards | -5.20 | -0.75
Large Coastal Shark Discards | -6.51 | -5.42
Swordfish Kept | -2.45 | -1.69
BAYS Tunas Kept | -2.04 | 1.35
Dolphin (Mahi) Kept | -3.69 | -1.37
Pelagic Sharks Kept | -2.38 | -1.82

[FR Doc. C0-10310 Filed 5-8-00; 8:45 am]

BILLING CODE 1505-01-D